DEPARTMENT OF COMMERCE

National Institute of Standards and Technology

Visiting Committee on Advanced Technology

AGENCY: National Institute of Standards and Technology, Department of Commerce.

ACTION: Notice of public meeting.

SUMMARY: The Visiting Committee on Advanced Technology (VCAT or Committee), National Institute of Standards and Technology (NIST), will meet Tuesday, October 18, 2011, from 8:30 a.m. to 5 p.m. and Wednesday, October 19, 2011, from 8:30 a.m. to 3 p.m. The VCAT is composed of fifteen members appointed by the Under Secretary of Commerce for Standards and Technology who are eminent in such fields as business, research, new product development, engineering, labor, education, management consulting, environment, and international relations.

DATES: The VCAT will meet on Tuesday, October 18, 2011, from 8:30 to 5 p.m. and Wednesday, October 19, 2011, from 8:30 a.m. to 3 p.m.

ADDRESSES: The meeting will be held in the Portrait Room, Administration Building, at NIST, Gaithersburg, Maryland. Please note admittance instructions under the SUPPLEMENTARY INFORMATION section of this notice.

FOR FURTHER INFORMATION CONTACT: Stephanie Shaw, Visiting Committee on Advanced Technology, National Institute of Standards and Technology, Gaithersburg, Maryland 20899-1060, telephone number 301-975-2667. Ms. Shaw's e-mail address is Stephanie.shaw@nist.gov.

SUPPLEMENTARY INFORMATION:

Authority: 15 U.S.C. 278.

The purpose of this meeting is to review and make recommendations regarding general policy for the Institute, its organization, its budget, and its programs within the framework of applicable national policies as set forth by the President and the Congress. The agenda will include an update on NIST, open sessions of the VCAT Subcommittee on Public Safety Networks and the VCAT Subcommittee on Manufacturing, and presentations on the Subcommittee's recommendations for deliberation by the full Committee. Recommendations from the Public Safety Networks Subcommittee will cover the key architectural elements of a next generation wireless communication network. The Manufacturing Subcommittee's recommendations will address the structure and role of the Advanced Manufacturing Technology Consortia, a proposed new public-private partnership program. The Committee also will hold a wrap-up discussion including plans for future VCAT subcommittee activities and the 2011 VCAT Annual Report. The agenda may change to accommodate Committee business. The final agenda will be posted on the NIST Web site at http://www.nist.gov/director/vcat/agenda.cfm.

Individuals and representatives of organizations who would like to offer comments and suggestions related to the Committee's affairs are invited to request a place on the agenda. On October 18, 2011, approximately one-half hour will be reserved in the afternoon for public comments and speaking times will be assigned on a first-come, first-serve basis. The amount of time per speaker will be determined by the number of requests received, but is likely to be about 3 minutes each. The exact time for public comments will be included in the final agenda that will be posted on the NIST Web site at http://www.nist.gov/director/vcat/agenda.cfm. Questions from the public will not be considered during this period. Speakers who wish to expand upon their oral statements, those who had wished to speak but could not be accommodated on the agenda, and those who were unable to attend in person are invited to submit written statements to the VCAT, National Institute of Standards and Technology, 100 Bureau Drive, MS 1060, Gaithersburg, Maryland, 20899, via fax at 301-948-1936 or electronically by e-mail to gail.ehrlich@nist.gov.

All visitors to the NIST site are required to pre-register to be admitted. Please submit your name, time of arrival, e-mail address and phone number to Stephanie Shaw by close of business Thursday, October 13, 2011. Non-U.S. citizens must also submit their country of citizenship, title, employer/sponsor, and address. Ms. Shaw's e-mail address is stephanie.shaw@nist.gov and her phone number is 301-975-2667.

Dated: September 20, 2011.
Willie E. May,
Associate Director for Laboratory Programs.

[FR Doc. 2011-24792 Filed 9-26-11; 8:45 am]

BILLING CODE 3510-13-P